DEPARTMENT OF ENERGY

Federal Energy Regulatory Commission

[Docket No. RP01-35-000]

Norteño Pipeline Company; Notice of Tariff Compliance Filing

October 12, 2000.

Take notice that on Octobere 10, 2000, Norteño Pipeline Company (Norteño), tendered for filing as part of its FERC Gas Tariff, First Revised Volume No. 1, the following pro forma tariff sheet:

Pro Forma Sheet No. 242

Norteño states that this pro forma tariff sheet reflects the changes to its tariff that are required to comply with the Commission's Order Nos. 637, 637-A and 637-B. Norteño has made changes to its General Terms and Conditions to provide for segmentation of capacity. As further explained in the filing, Norteño believes its current tariff provisions governing scheduling equality and flexible point rights comply with the requirements of Order No. 637. Norteño requests waiver of the requirements relating to alternate point allocations, operational flow orders, imbalance services and penalties on the grounds that they are either not operationally feasible for Norteño or are unnecessary in order to comply with Order No. 637.

Norteño states that copies of this filing have been served on Norteño's jurisdictional customers and public bodies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26691 Filed 10-17-00; 8:45 am]

BILLING CODE 6717-01-M